DEPARTMENT OF HEALTH AND HUMAN SERVICES

National Institutes of Health

Center for Scientific Review; Amended Notice of Meeting

Notice is hereby given of a change in the Center for Scientific Review Notice of Closed Meetings that were published in the Federal Register on May 23,2023, 88 FR 33156.

The publication is being amended to change the statements “notice is hereby given of a meeting of the NIH Clinical Center Research Hospital Board” to “notice is hereby given of the following meetings”. In the amended portion of the notice, the NIH Clinical Center Research Hospital Board was listed in error and the meetings listed within the Federal Register notice are not related to that Board. There are no changes to the listed meetings. The meetings are closed to the public.

Dated: May 25, 2023.
David W. Freeman,
Supervisory Program Analyst, Office of Federal Advisory Committee Policy.

[FR Doc. 2023-11596 Filed 5-31-23; 8:45 am]

BILLING CODE 4140-01-P